DEPARTMENT OF COMMERCE

International Trade Administration

[A-570-951]

Certain Woven Electric Blankets from the People's Republic of China: Amended Final Determination of Sales at Less Than Fair Value

AGENCY: Import Administration, International Trade Administration, Department of Commerce.

EFFECTIVE DATE: August 4, 2010.

FOR FURTHER INFORMATION CONTACT: Drew Jackson, Import Administration, International Trade Administration, U.S. Department of Commerce, 14th Street and Constitution Avenue, NW, Washington, DC 20230; telephone: (202) 482-4406.

SUPPLEMENTARY INFORMATION:

Amendment to the Final Determination:

In accordance with sections 735(d) and 777(i)(1) of the Tariff Act of 1930, as amended, (“the Act”), on July 2, 2010, the Department of Commerce (“Department”) published the final determination of sales at less than fair value (“LTFV”) in the antidumping investigation of certain woven electric blankets (“woven electric blankets”) from the People's Republic of China (“PRC”). See Certain Woven Electric Blankets From the People's Republic of China: Final Determination of Sales at Less Than Fair Value, 75 FR 38459 (July 2, 2010) (“Final Determination”).

On July 6, 2010, Jarden Consumer Solutions (“Petitioner”) filed a timely allegation that the Department made various ministerial errors in the Final Determination and requested, pursuant to 19 CFR 351.224, that the Department correct the alleged ministerial errors in the calculation of the margins for respondent, Hung Kuo Electronics (Shenzhen) Company Limited (“Hung Kuo”). No other parties in this proceeding submitted comments on the Department's final margin calculations or replies to Petitioner's submission.

A ministerial error is defined as an error “in addition, subtraction, or other arithmetic function, clerical error resulting from inaccurate copying, duplication, or the like, and any other type of unintentional error which the Department considers ministerial.” See section 735(e) of the Act; see also 19 CFR 351.224(f).

After analyzing Petitioner's comments, we have determined, in accordance with section 735(e) of the Act and 19 CFR 351.224(e), that we made certain inadvertent ministerial errors in our calculations for the final determination with respect to Hung Kuo. For a detailed discussion of these ministerial errors, as well as the Department's analysis of these errors, see Memorandum to Abdelali Elouaradia, Director, AD/CVD Operations, Office 4, through Howard Smith, Program Manager, AD/CVD Operations, Office 4, concerning, “Antidumping Duty Investigation of Certain Woven Electric Blankets from the People's Republic of China: Analysis of Ministerial Error Allegations,” dated July 28, 2010.

Additionally, in the Final Determination, we determined that Ningbo V.K. Industry & Trading Co., Ltd., and Ningbo Jifa Electrical Appliances Co., Ltd./Ningbo Jinchun Electric Appliances Co., Ltd. had demonstrated their eligibility to receive a separate rate. See Final Determination, 75 FR 38459-38461. In the Final Determination, we assigned Ningbo V.K. Industry & Trading Co., Ltd., and Ningbo Jifa Electrical Appliances Co., Ltd./Ningbo Jinchun Electric Appliances Co., Ltd. the dumping rate calculated for Hung Kuo. For this amended final determination, we have assigned these companies Hung Kuo's recalculated dumping rate.

We have made no changes to the margin selected for the PRC-wide entity.

Therefore, in accordance with section 735(e) of the Act, we are amending the final determination of sales at LTFV in the antidumping duty investigation of woven electric blankets from the PRC. After correcting these ministerial errors, the revised final weighted-average dumping margins are as follows:

Amended Final Determination Margins

We determine that the following weighted-average dumping margins exist for the period October 1, 2008, through March 31, 2009:

Exporter & Producer | Weighted-Average Margin
Hung Kuo Electronics (Shenzhen) Company Limited | 93.09 %
Produced by: Hung Kuo Electronics (Shenzhen) Company Limited
Ningbo V.K. Industry & Trading Co., Ltd. | 93.09%
Produced by: Ningbo V.K. Industry & Trading Co., Ltd.
Ningbo Jifa Electrical Appliances Co., Ltd. or Ningbo Jinchun Electric Appliances Co., Ltd. | 93.09%
Produced by: Ningbo Jifa Electrical Appliances Co., Ltd. or Ningbo Jinchun Electric Appliances Co., Ltd.
PRC-Wide Rate | 174.85%

Continuation of Suspension of Liquidation

In accordance with section 735(c)(1)(B) of the Act, the Department will instruct CBP to continue to suspend liquidation of all entries of woven electric blankets from the PRC, as described in the “Scope of Investigation” section, entered, or withdrawn from warehouse, for consumption on or after, February 3, 2010, the date of publication of the Preliminary Determination in the Federal Register. See Certain Woven Electric Blankets From the People's Republic of China: Preliminary Determination of Sales at Less Than Fair Value and Postponement of Final Determination, 75 FR 5567 (February 3, 2010) (“Preliminary Determination”). The Department will instruct CBP to require a cash deposit or the posting of a bond equal to the weighted-average dumping margin amount by which the normal value exceeds U.S. price, as follows: (1) The rate for the exporter/producer combinations listed in the chart above will be the rate the Department has determined in this final determination; (2) for all PRC exporters of subject merchandise which have not received their own rate, the cash-deposit rate will be the PRC-wide entity rate; and (3) for all non-PRC exporters of subject merchandise which have not received their own rate, the cash-deposit rate will be the rate applicable to the PRC exporter/producer combination that supplied that non-PRC exporter. These suspension-of-liquidation instructions will remain in effect until further notice.

This determination is issued and published in accordance with sections 735(d) and 777(i)(1) of the Act, and 19 CFR 351.224(e).

Dated: July 28, 2010.
Paul Piquado,
Acting Deputy Assistant Secretary for Import Administration.

[FR Doc. 2010-19137 Filed 8-3-10; 8:45 am]

BILLING CODE 3510-DS-S